DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services (DHHS) at 73, Number 147, pages 44274-44275, July 30, 2008, is amended to reflect the new functional statement for the Office of the Administrator, the Office of Program Services, the Office of Applied Studies and the Office of Policy, Planning and Budget. In addition this notice establishes a new Office of Policy, Planning and Innovation. These changes are necessary to strengthen cross Agency collaboration in policy analysis and development and to streamline oversight of all financial management procedures. The changes are as follows:

Section M.20, Functions is amended as follows:

The functional statement for the Office of the Administrator is amended to remove the functions related to controlled correspondence. The Office of Program Services is renamed to the Office of Management, Technology and Operations. In addition the functions of grant review, grants management and contracts management are deleted. The Office of Applied Studies is renamed to the Center for Behavioral Health Statistics and Quality and the Office of the Director, is amended to remove the functions related to the Paperwork Reduction Act. The Office of Policy, Planning and Budget is renamed the Office of Financial Resources. In addition the functions of grant review, grants management and contracts management are added and the Division of Policy Coordination is deleted. The Office of Policy, Planning and Innovation is established to provide an integrated and structured approach for the identification and adoption of policies and innovative practices that improve behavioral health services outcomes. The functional statement for each office is changed to read as follows:

Office of the Administrator (MA)

The Administrator is responsible to the Secretary for managing and directing SAMHSA. The office functions are as follows: (1) Provides leadership in the development of agency policies and programs; (2) maintains liaison with the Office of the Secretary on matters related to program and other activities; (3) provides oversight for coordination between SAMHSA and the National Institutes of Health (NIH) on the conduct of research and the dissemination of research findings in the areas of alcohol, drug abuse, and mental health; (4) analyzes legislative issues, and maintains liaison with congressional committees; and (5) coordinates Agency communications and conducts public affairs activities.

Office of Management, Technology and Operations (MB)

(1) Works in partnership with other SAMHSA and DHHS components in managing, providing leadership, and ensuring SAMHSA's needs are met in the following service areas: administrative services, human resources management, equal employment opportunity, organizational development and analysis, and information technology; (2) provides leadership in the development of policies for and the analysis, performance measurement, and improvement of SAMHSA administrative and management services; (3) provides leadership, guidance, and technical expertise for the Agency's information technology program; and (4) provides centralized administrative services for the Agency.

Center for Behavioral Health Statistics and Quality (MC)

(1) Collects information as required by statute on the incidence, prevalence, trends, correlates of substance abuse and mental health problems, and the economic, behavioral and medical consequences of substance abuse and mental health problems in the United States; (2) collects information as required by statute on the number, characteristics, conduct, and performance of facilities and organizations providing prevention and treatment services for substance abuse at the national, State and local level; (3) plans, directs, and conducts studies based on data collected by the Center and other organizations of issues associated with substance abuse and mental health problems; (4) designs and carries out special data collection and analytic projects to examine topical issues for SAMHSA and other Federal agencies; (5) conducts epidemiological, statistical, and policy studies of existing or emerging issues; (6) provides information for program evaluation activities of the Agency; and (7) prepares reports and disseminates findings through Agency publications, the press, scientific journals, and electronic systems.

Office of Financial Resources (MG)

(1) Carries out all Chief Financial Officer functions provided by the Chief Financial Officers Act of 1990; (2) represents the agency before the Office of Management and Budget (OMB) in matters of presentation of budgets, performance reporting and resolution of issues arising from the execution of final appropriations; (3) provides guidance, manages and coordinates the Agency budget plans and formulates and presents SAMHSA's future budget and financial management activities; (4) provides leadership and direction in the Agency-wide review, analysis and appraisal of financial elements of program execution and the development and execution of policies related to efficient allocation, expenditure and control of funds; (5) develops and executes Agency-wide procedures relating to implementation and management of the Government Performance and Results Act (GPRA); (6) coordinates and manages General Accounting Office (GAO) and Office of Inspector General (OIG) reviews of the agency, analyzes results, and develops agency response; (7) develops extramural policy and guidance addressing peer and council review, interagency agreements, and jointly funded grant programs; (8) conducts all aspects of the SAMHSA contracts management process; (9) conducts all aspects of the SAMHSA grants management process; and (10) plans, administers, and coordinates the review of grant and cooperative agreement applications and contract proposals.

Office of Policy, Planning and Innovation (MD)

The Office of Policy, Planning and Innovation provides an integrated and structured approach for the identification and adoption of policies and innovative practices that improve behavioral health services outcomes. The Office represents the Agency at meetings both internal and external and raises SAMHSA's profile in health services research by collaborating with other Departments and Agencies, such as the National Institutes of Health, the Centers for Disease Control and Prevention, and the Center for Medicare and Medicaid Services, to facilitate the adoption of data-driven policies and practices by those working in the field to improve behavioral health outcomes. While SAMHSA's primary mission is to serve those with behavioral health needs and foster health improvements, many partners and allies exist within other fields which also play a crucial role in supporting and improving behavioral health. The Office will seek to influence these partners and allies to encourage inclusion of behavioral health within their policy initiatives.

Delegation of Authority

All delegations and re-delegations of authority to officers and employees of SAMHSA which were in effect immediately prior to the effective date of this reorganization shall continue to be in effect pending further re-delegations, provided they are consistent with this reorganization.

This delegation of authority is effective immediately.

Dated: July 20, 2010 .
Kathleen Sebelius,
Secretary.

[FR Doc. 2010-19856 Filed 8-13-10; 8:45 am]

BILLING CODE 4160-01-P